DEPARTMENT OF THE INTERIOR

Bureau of Land Management

[LLNVSO3100 L51010000 ER0000 LVRWF09F8740.241A; 12-08807; MO# 4500027523; TAS: 14X5017]

Notice of Availability of the Draft Environmental Impact Statement and Notice of Segregation for the Searchlight Wind Energy Project, Clark County, NV

AGENCY: Bureau of Land Management, Interior.

ACTION: Notice of availability.

SUMMARY: In accordance with the National Environmental Policy Act of 1969, as amended, the Bureau of Land Management (BLM) has prepared a Draft Environmental Impact Statement (EIS) for the Searchlight Wind Energy Project and by this notice is announcing the opening of the comment period. Publication of this notice also serves to segregate the identified lands from appropriation under the public land laws for a period of 2 years, including location under the Mining Law, but not the Mineral Leasing Act or the Materials Act, subject to valid existing rights.

DATES: To ensure comments will be considered, the BLM must receive written comments on the Searchlight Wind Energy Project Draft EIS within 90 days following the date the Environmental Protection Agency publishes this Notice of Availability in the Federal Register. The BLM will announce future meetings or hearings and any other public involvement activities at least 15 days in advance through public notices, media releases, and/or mailings.

ADDRESSES: You may submit comments related to the Searchlight Wind Energy Project by any of the following methods:

• Web site: http://www.blm.gov/nv/st/en/fo/lvfo/blm_programs/energy/searchlight_wind_energy.html

• Email: BLM_NV_SNDO_SearchlightWindEnergyEIS@blm.gov.

• Fax: (702) 515-5010, attention Gregory Helseth.

• Mail: BLM Las Vegas Field Office, Attn: Gregory Helseth, 4701 North Torrey Pines Drive, Las Vegas, NV 89130-2301.

Copies of the Searchlight Wind Energy Project are available in the Las Vegas Field Office at the above address.

FOR FURTHER INFORMATION CONTACT: Gregory Helseth, Renewable Energy Project Manager, (702) 515-5173; 4701 North Torrey Pines Drive, Las Vegas, NV 89130-2301; email: BLM_NV_SNDO_SearchlightWindEnergyEIS@blm.gov. Persons who use a telecommunications device for the deaf (TDD) may call the Federal Information Relay Service (FIRS) at 1-(800) 877-8339 to contact the above individual during normal business hours. The FIRS is available 24 hours a day, 7 days a week, to leave a message or question with the above individual. You will receive a reply during normal business hours.

SUPPLEMENTARY INFORMATION: Searchlight Wind Energy, LLC (SWE), a wholly owned subsidiary of Duke Energy, applied to the BLM for a right-of-way (ROW) grant on public lands to develop a 200-megawatt (MW) wind energy facility. The ROW application area encompasses approximately 18,789.71 acres of BLM-administered public lands adjacent to Searchlight, located approximately 60 miles southeast of Las Vegas, in Clark County, Nevada. The project is in conformance with the 1998 Las Vegas Resource Management Plan.

The proposed wind turbines would be up to 262-feet-tall from the ground to the hub with blades extending up to an additional 153 feet. The total height of each turbine would be up to 415 feet. In addition to the wind turbines, the proposed project would require the construction of new access roads, two electrical substations, an overhead transmission line connecting the two substations, an electrical interconnection facility/switchyard owned and operated by Western Area Power Administration (Western), an operations and maintenance building, and temporary and permanent laydown areas. Three permanent meteorological masts would remain on the site to measure the wind speed and direction across the site over the life of the project.

SWE has requested to interconnect its proposed project to the electrical transmission grid via Western's Davis-Mead 230-kilovolt (kV) transmission line. Western, a Federal agency, is participating in the EIS process as a cooperating agency and may use the EIS to support its decision to approve or deny SWE's interconnection request. Western has also submitted a ROW application to the BLM for construction and operation of the electrical interconnection facility/switchyard, which is analyzed as part of this EIS.

The proposed action analyzed in the Draft EIS is to approve the project in response to the applications received from SWE and Western. Three alternatives are analyzed in the Draft EIS—an 87 wind turbine layout, a 96 wind turbine alternative, and a no-action alternative. The 87 wind turbine alternative is the BLM's preferred alternative and has a smaller footprint than the 96 wind turbine alternative. The Draft EIS describes and analyzes the project's site-specific impacts on air quality, biological resources, cultural resources, environmental justice, geological resources, human health, and hazardous materials, lands and realty, noise, noxious weeds, paleontological resources, recreation, socioeconomic resources, transportation, visual resources and water resources.

A Notice of Intent was published in the Federal Register on December 16, 2008 (73 FR 76377). The BLM held three public scoping meetings in Searchlight, Laughlin, and Boulder City, Nevada, on January 27, 28, and 29, 2009, respectively. The formal scoping period ended on February 17, 2009. Sixty-six comment submissions were received, which identified 384 issues. The issues are grouped into 14 main issue categories: Process, project alternatives, project description, project need, air quality, cultural, hazardous materials, land use, noise, socioeconomics, vegetation, visual, water, and cumulative impacts.

Maps of the proposed project area and the alternatives analyzed in the Draft EIS are available at the Las Vegas Field Office. Please note that public comments and information submitted will be available for public review and disclosure at the above address during regular business hours (8 a.m. to 4 p.m.), Monday through Friday, except holidays. Before including your address, phone number, email address, or other personal identifying information in your comment, you should be aware that your entire comment—including your personal identifying information—may be made publicly available at any time. While you can ask us in your comment to withhold your personal identifying information from public review, we cannot guarantee that we will be able to do so.

In connection with its processing of SWE's and Western's application, the BLM is also segregating the public lands within the project application area for the project from appropriation under public land laws, including the Mineral Law of 1872, as amended, but not the Mineral Leasing or the Material Sales Acts, for a period of 2 years from the date of publication of this notice. This is done under the authority contained in 43 CFR 2091.3-1(e) and 43 CFR 2804.25(e), and is subject to valid existing rights. The public lands contained within this temporary segregation total approximately 18,789.71 acres and are described as follows:

Mount Diablo Meridian

T. 28 S., R. 63 E.,

Sec. 22, that portion of the E½SE¼ lying east of the easterly right-of-way of S.R. 95 NVCC-020733;

Sec. 23, that portion lying east of the easterly right-of-way of S.R. 95 NVCC-020733, excepting Patent No. 27-72-0013, and patented mineral surveys;

Sec. 24, excepting patented mineral surveys;

Sec. 25, excepting patented mineral surveys;

Sec. 26, excepting patented mineral surveys;

Sec. 27, those portions of lots 1, 8, 9, 10, 14, and 15 lying east of the easterly right-of-way of S.R. 95 NVCC-020733.

T. 29 S., R. 63 E.,

Sec. 1;

Sec. 11, that portion lying east of airport leases NEV-065340 and N-81843;

Sec. 12, NE¼, N½NW¼, E½SW¼, SW¼SW¼, and SE¼;

Sec. 13;

Sec. 14, that portion lying east of the easterly right-of-way of S.R. 95 NVCC-020845, excepting airport lease NEV-065340;

Sec. 24, that portion lying east of the easterly right-of-way of S.R. 95 NVCC-020845;

Sec. 25, that portion lying east of the easterly right-of-way of S.R. 95 NVCC-020845.

T. 28 S., R. 64 E.,

Secs. 19 and 20;

Sec. 26, those portions of the N½NE¼SW¼, N½NW¼SW¼, and W½NW¼NW¼SE¼, lying north of the northerly right-of-way of Cottonwood Cove Road;

Secs. 27 and 28;

Sec. 29, excepting patented mineral surveys;

Sec. 30, excepting patented mineral surveys;

Sec. 31, excepting patented mineral surveys;

Sec. 32, excepting patented mineral surveys;

Secs. 33 and 34.

T. 29 S., R. 64 E.,

Sec. 4;

Sec. 5, excepting patented mineral surveys;

Secs. 6 to 8 inclusive, 17 to 20 inclusive, and 29 and 30.

The area described contains 18,789.71 acres, more or less, in Clark County, Nevada.

The BLM has determined that this temporary segregation is necessary to ensure the orderly administration of the public lands by maintaining the status quo while it processes SWE's and Western's ROW applications for the above described lands. The temporary segregation period will terminate and the lands will automatically reopen to appropriation under the public land laws, including the Mining Law, if one of the following events occurs: (1) The BLM issues a decision granting, granting with modifications, or denying SWE's and Western's ROW authorization request; (2) Publication in the Federal Register of a notice terminating this segregation; or (3) No further administrative action occurs at the end of this segregation. Any segregation made under this authority is effective only for a period of up to 2 years.

Authority: 40 CFR 1506.6, 40 CFR 1506.10.

Vanessa Hice,
Assistant Field Manager, Division of Lands.

[FR Doc. 2012-940 Filed 1-19-12; 8:45 am]

BILLING CODE 4310-HC-P